DEPARTMENT OF LABOR

Mine Safety and Health Administration

Brookwood-Sago Mine Safety Grants

AGENCY: Mine Safety and Health Administration, Labor.

ACTION: Solicitation for Grant Applications (SGA).

SUMMARY: The U.S. Department of Labor, Mine Safety and Health Administration (MSHA), is making $1,000,000 available in grant funds for educational and training programs to help identify, avoid, and prevent unsafe working conditions in and around mines. The focus of these grants for the Fiscal Year (FY) 2011 will be on training and training materials for mine emergency preparedness and mine emergency prevention for all underground mines. Applicants for the grants may be States and nonprofit (private or public) entities. MSHA could award as many as 20 separate grants. The amount of each individual grant will be at least $50,000.00. The maximum amount for a 12-month period of performance is $250,000. Also, MSHA is announcing a new program structure allowing applicants to apply for a renewal grant. This notice contains all of the information needed to apply for grant funding.

DATES: The closing date for applications will be August 31, 2011 (no later than 11:59 p.m. EDST). MSHA will award grants on or before September 30, 2011.

ADDRESSES: Applications for grants submitted under this competition must be submitted electronically using the Government-wide site at http://www.grants.gov. If applying online poses a hardship to any applicant, the MSHA Directorate of Educational Policy and Development will provide assistance to help applicants submit online. MSHA's Web page at http://www.msha.gov is a valuable source of background for this initiative.

FOR FURTHER INFORMATION CONTACT: Any questions regarding this solicitation for grant applications (SGA 11-3BS) should be directed to Robert Glatter at glatter.robert@dol.gov or at 202-693-9570 (this is not a toll-free number) or the Grant Officer, Carl Campbell at campbell.carl@dol.gov or at 202-693-9839 (this is not a toll-free number).

SUPPLEMENTARY INFORMATION:

Announcement Type: New.

Funding Opportunity Number: SGA 11-3BS.

Catalog of Federal Domestic Assistance (CFDA) Number: 17.603.

This solicitation provides background information and the critical elements required of projects funded under the solicitation. It also describes the application submission requirements, the process that eligible applicants must use to apply for funds covered by this solicitation, and how grantees will be selected. Further information regarding submitting the grant application electronically is listed in Section IV.C., Submission Date, Times, and Addresses. This solicitation consists of eight parts:

• Part I provides background information on the Brookwood-Sago grants.

• Part II describes the size and nature of the anticipated awards.

• Part III describes the qualifications of an eligible applicant.

• Part IV provides information on the application and submission process.

• Part V explains the review process and rating criteria that will be used to evaluate applications.

• Part VI provides award administration information.

• Part VII contains MSHA contact information.

• Part VIII addresses Office of Management and Budget information collection requirements.

I. Funding Opportunity Description

A. Overview of the Brookwood-Sago Mine Safety Grant Program

Responding to several coal mine disasters, Congress enacted the Mine Improvement and New Emergency Response Act of 2006 (MINER Act). When Congress passed the MINER Act, it expected that requirements for new and advanced technology, e.g., fire-resistant lifelines and increased breathable air availability in escapeways would increase safety in mines. The MINER Act also required that every underground coal mine would have persons trained in emergency response. Congress emphasized its commitment to training for mine emergencies when it strengthened the requirements for the training of mine rescue teams. Recent events demonstrate that training is the key for proper and safe emergency response and that all miners employed underground should be trained in emergency response.

Under Section 14 of the MINER Act, the Secretary of Labor (Secretary) is required to establish a competitive grant program called the “Brookwood-Sago Mine Safety Grants” (Brookwood-Sago grants). This program provides funding of education and training programs to better identify, avoid, and prevent unsafe working conditions in and around mines. This program will use grant funds to establish and implement education and training programs or to create training materials and programs. The MINER Act requires the Secretary to give priority to mine safety demonstrations and pilot projects with broad applicability. It also mandates that the Secretary emphasize programs and materials that target miners in smaller mines, including training mine operators and miners on new MSHA standards, high-risk activities, and other identified safety priorities.

B. Grant Structures

MSHA currently funds the Brookwood-Sago grants annually for 12 months of performance and requires an applicant to compete each year for the available funds. MSHA is identifying these grants as “annual grants.”

MSHA is announcing the availability of a renewal grant program structure. Under this new structure, MSHA will award a grant eligible for two separate years of funding with two separate 12-month performance periods. MSHA is identifying these grants as “renewal grants.”

The awardees' eligibility for the second-year of funding in FY 2012 is contingent on certain conditions being met. MSHA will award funding for the second-year of performance based on the following requirements:

1. The grant topics are still a priority with MSHA for training under the Brookwood-Sago grants;

2. Funds are available for the Brookwood-Sago grant program; and

3. The grantee has demonstrated acceptable performance under the first year of the grant.

If MSHA funds the second year of renewal grants, it will advise, in the FY 2012 Brookwood-Sago SGA, those grantees eligible for renewal grants of the paperwork necessary to obtain their second year of funding. If a renewal grantee chooses not to pursue the second year of funding, the grantee may still compete for a new Brookwood-Sago grant in FY 2012. MSHA would not penalize an eligible grantee for not applying for its second year of funding under the renewal grant and would permit the grantee to compete for another Brookwood-Sago grant.

C. Educational and Training Program Priorities

MSHA priorities for the FY 2011 funding of the annual Brookwood-Sago grants will focus on training or training materials for mine emergency preparedness and mine emergency prevention for all underground mines. MSHA expects Brookwood-Sago grantees to develop training materials or to develop and provide mine safety training or educational programs, recruit mine operators and miners for the training, and conduct and evaluate the training.

For the renewal grants, MSHA's priorities will focus on training for mine emergency preparedness and mine emergency prevention for all underground mines. Except for creating very innovative educational material or equipment, MSHA expects that renewal grants will focus primarily on training mine operators and miners. A renewal grant may include a request for creating educational materials or equipment, but the purpose of these grants is to provide training for as many mine operators and miners as possible. MSHA also expects grantees with renewal grants to recruit mine operators and miners for the training, and conduct and evaluate the grant program on mine emergency preparedness or mine emergency prevention.

For both programs, grantees are also expected to conduct follow-up evaluations with the people who receive training in their programs. The evaluation will focus on determining how effective their training was in either reducing hazards or improving skills for the selected training topics or in improving the conditions in mines. Grantees must also cooperate fully with MSHA evaluators of their programs.

II. Award Information

A. Award Amount for FY 2011

MSHA is providing $1,000,000 total for both the FY 2011 annual and renewal Brookwood-Sago grants program and may award as many as 20 grants. The amount of each individual grant will be no less than $50,000.00 for a 12-month performance period; and the maximum award for a 12-month performance period is $250,000. Applicants requesting less than $50,000 or more than $250,000 for a 12-month performance period will not be considered for funding.

B. Period of Performance

The period of performance will be 12 months from the date of execution of the grant documents awarding the funds. This performance period must include all necessary implementation and start-up activities, as well as follow-up for performance. A timeline clearly detailing these required grant activities and their expected completion dates must be included in the grant application.

MSHA may approve a request for a one time no-cost extension to grantees for an additional period of up to 12 months from the expiration date of the annual award based on the success of the project and other relevant factors. See 29 CFR 95.25 (e)(2). At the end of the second year of funding for a renewal grant, MSHA may approve a request for a no-cost extension for an additional period of performance of up to 6 months based on the success of the project and other relevant factors.

III. Eligibility Information

A. Eligible Applicants

Applicants for the grants may be States and nonprofit (private or public) entities. Eligible entities may apply for funding independently or in partnership with other eligible organizations. For partnerships, a lead organization must be identified.

Applicants other than States and State-supported or local government-supported institutions of higher education will be required to submit evidence of nonprofit status, preferably from the Internal Revenue Service. A nonprofit entity as described in 26 U.S.C. 501(c)(4), which engages in lobbying activities, is not eligible for a grant award. See 2 U.S.C. 1611.

B. Cost-Sharing or Matching

Cost-sharing or matching of funds is not required for eligibility. The leveraging of public or private resources to achieve project sustainability, however, is highly encouraged and may be awarded up to 10 application evaluation points.

C. Other Eligibility Requirements

1. Dun and Bradstreet Number (DUNS)

Under 2 CFR 25.200, every applicant for a Federal funding opportunity is required to include a DUNS number with its application. The DUNS number is a nine-digit identification number that uniquely identifies business entities. An applicant's DUNS number is to be entered into Block 8 of Standard Form (SF) 424. There is no charge for obtaining a DUNS number. To obtain a DUNS number, call 1-866-705-5711 or access the following Web site: http://fedgov.dnb.com/webform/displayHomePage.do.

After receiving a DUNS number, all grant applicants must also register as a vendor with the Central Contractor Registration (CCR) through the Web site at http://www.ccr.gov or apply by phone (1-888-227-2423). 2 CFR 25.200. Grant applicants must create a user account and then complete and submit the online registration. Once you have completed the registration, it will take three to five business days to process. The applicant will receive an e-mail notice that the registration is active.

2. Legal Rules Pertaining to Inherently Religious Activities by Organizations That Receive Federal Financial Assistance

The government generally is prohibited from providing direct Federal financial assistance for inherently religious activities. See 29 CFR Part 2, Subpart D. Grants under this solicitation may not be used for religious instruction, worship, prayer, proselytizing, or other inherently religious activities. Neutral, non-religious criteria that neither favor nor disfavor religion will be employed in the selection of grant recipients and must be employed by grantees in the selection of contractors and subcontractors.

3. Non-Compliant Applications

Applications that are lacking any of the required elements or do not follow the format prescribed in IV.B will not be reviewed.

4. Late Applications

Applications received after the deadline will not be reviewed unless it is determined to be in the best interest of the Government.

IV. Application and Submission Information

A. Application Forms

This announcement includes all information and links needed to apply for this funding opportunity. The full application is available through the Grants.gov Web site http://www.grants.gov/ under “Apply for Grants”. The Catalog of Federal Domestic Assistance (CFDA) number needed to locate the appropriate application for this opportunity is 17.603. If an applicant has problems downloading the application package from Grants.gov, contact Grants.gov Contact Center at 1-800-518-4726 or by e-mail at support@grants.gov.

B. Content and Form of the Application

Each grant application must address mine emergency preparedness or mine emergency prevention for underground mines. The applicant must identify that an application is for an annual or a renewal grant. Applicants must submit a separate application for each topic and each type of grant. The application must consist of three separate and distinct sections. The three required sections are:

• Section 1—Project Financial Plan and Forms (No page limit).

• Section 2—Executive Summary (Not to exceed two pages).

• Section 3—Technical Proposal (Not to exceed 12 pages). Illustrative material can be submitted as an attachment.

The following are mandatory requirements for each section.

1. Project Financial Plan and Forms

This section contains the forms and budget section of the application. The Project Financial Plan will not count against the application page limits. A person with authority to bind the applicant must sign the application and forms. Applications submitted electronically through Grants.gov do not need to be signed manually; electronic signatures will be accepted.

(a) Completed SF-424, “Application for Federal Assistance.” This form is part of the application package on Grants.gov and is also available at http://www.msha.gov. The SF-424 must identify the applicant clearly and be signed by an individual with authority to enter into a grant agreement. Upon confirmation of an award, the individual signing the SF-424 on behalf of the applicant shall be considered the representative of the applicant.

(b) Completed SF-424A, “Budget Information for Non Construction Programs.” This form is part of the application package on Grants.gov and is also available at http://www.msha.gov. The project budget should demonstrate clearly that the total amount and distribution of funds is sufficient to cover the cost of all major project activities identified by the applicant in its proposal, and must comply with the Federal cost principles and the administrative requirements set forth in this SGA. (Copies of all regulations that are referenced in this SGA are available online at http://www.msha.gov. Select “Education & Training,” click on “Courses,” then select “Brookwood-Sago Mine Safety Grants.”)

For renewal grant applications, applicants must include all the renewal grants information on the SF-424 forms. For example, if the applicant is applying for a renewal grant, the total amount of the grant might be $100,000, and each year's funding could be $50,000. When filling out the SF-424 Application for Federal Assistance form, the proposed project start date in Item No. 17 for renewal grants is 9/30/2011, and the end date is 9/29/2013. The estimated funding in Item No. 18 would be $100,000. On the SF-424A Budget Information for Non-Construction Programs, the applicant would provide a total of $50,000 for the first-year funding and $50,000 for the second-year funding.

(c) Budget Narrative. The applicant must provide a concise narrative explaining the request for funds. The budget narrative should separately attribute the Federal funds and leveraged resources to each of the activities specified in the technical proposal and it should discuss precisely how any administrative costs support the project goals. Indirect cost charges, which are considered administrative costs, must be supported with a copy of an approved Indirect Cost Rate Agreement. Indirect Costs are those costs that are not readily identifiable with a particular cost objective but nevertheless are necessary to the general operation of an organization, e.g., personnel working in accounting. Administrative costs may not exceed 15% of the total grant budget.

If applicable, the applicant must provide a statement about its program income. Program income is gross income earned by the grantee directly generated by a supported activity, or earned as a result of the award.

Any leveraged resources should not be listed on the SF-424 or SF-424A Budget Information Form, but must be described in the budget narrative and in the technical proposal of the application (as described in Part IV.B.3(d) of this SGA). The amount of Federal funding requested for the entire period of performance must be shown on the SF-424 and SF-424A forms. Note: Grantees will be responsible for obtaining any leveraged resources proposed in their applications. Failure to do so may result in the disallowance and required return of funds in the amount of the proposed leveraged resources.

(d) Completed SF-424B, “Assurances for Non-Construction Programs.” Each applicant for these grants must certify compliance with a list of assurances. This form is part of the application package on http://www.Grants.gov and also is available at http://www.msha.gov.

(e) Supplemental Certification Regarding Lobbying Activities Form. If any funds have been paid or will be paid to any person for influencing or attempting to influence an officer or employee of any agency, a member of Congress, an officer or employee of Congress, or an employee of a member of Congress in connection with the making of a grant or cooperative agreement, the applicant shall complete and submit SF-LLL, “Disclosure Form to Report Lobbying,” in accordance with its instructions. This form is part of the application package on http://www.Grants.gov and is also available at http://www.msha.gov. Select “Education & Training,” click on “Courses,” then select “Brookwood-Sago Mine Safety Grants.”

(f) Non-profit status. Applicants must provide evidence of non-profit status, preferably from the Internal Revenue Service (IRS), if applicable. (This requirement does not apply to State and local government-supported institutions of higher education.)

(g) Accounting System Certification. An organization that receives less than $1 million annually in Federal grants must attach a certification stating that the organization (directly or through a designated qualified entity) has a functioning accounting system that meets the criteria below. The certification should attest that the organization's accounting system provides for the following:

(1) Accurate, current and complete disclosure of the financial results of each Federally sponsored project.

(2) Records that identify adequately the source and application of funds for Federally sponsored activities.

(3) Effective control over and accountability for all funds, property, and other assets.

(4) Comparison of outlays with budget amounts.

(5) Written procedures to minimize the time elapsing between transfers of funds.

(6) Written procedures for determining the reasonableness, allocability, and allowability of cost.

(7) Accounting records, including cost accounting records that are supported by source documentation.

(h) Attachments. The application may include attachments such as resumes of key personnel or position descriptions, exhibits, information on prior government grants, and signed letters of commitment to the project.

2. Executive Summary

The executive summary is a short one-to-two page abstract that succinctly summarizes the proposed project and provides information about the applicant organization. (MSHA will publish, as submitted, all grantees' executive summaries on its Web site.) The executive summary must include the following information:

(a) Applicant. Provide the organization's full legal name and address.

(b) Funding requested. List how much Federal funding is being requested. If requesting a renewal grant, include the total for the two years of funding and list each year's requested funding levels. If the organization is contributing non-Federal resources, also list the amount of non-Federal resources and the source of the funds.

(c) Grant Topic. List the grant topic and the location and number of mine operators and miners that the organization has selected to train or describe the training materials or equipment to be created with these funds.

(d) Program Structure. Identify the type of grant: an annual or a renewal grant.

(e) Summary of the Proposed Project. Write a brief program summary of the proposed project. This summary must identify the key points of the proposal, including an introduction describing the project activities and the expected results. If requesting a renewal grant, also provide a summary of the key points of the second-year's activities and expected outcomes.

3. Technical Proposal

The technical proposal must demonstrate the applicant's capabilities to plan and implement a project or create educational materials or equipment to meet the objectives of this solicitation. MSHA's focus for these grants is on training mine operators and miners and developing training materials for mine emergency preparedness and mine emergency prevention for underground mines. MSHA has two program goals, described below, that will be considered indicators of the success of the program as a whole. The following table explains the types of data grantees must provide and their relationship with the Agency's program goals and performance measures for the Brookwood-Sago grants.

MSHA's program goals | MSHA's performance measures | Data grantee provides each 12-month performance period
1. Agency creates more effective training and improves safety | Increase the number of trainers trained | Number of training events during the period.
| Increase the number of mine operators and miners trained | Number of trainers trained.
| Provide quality training with clearly stated goals and objectives for improving safety | Number of mine operators and miners trained during the current reporting period.
|  | Number of course days of training provided to industry during the current reporting period.
|  | Pre-test and post-test results of trainees.
|  | Course evaluations of trainer and training materials.
|  | A description of the extent to which others will replicate (i.e., adopt or adapt) or institutionalize and continue the training or educational programs after grant funding ends.
2. Agency creates training materials and improves safety | Increase number of quality educational materials developed | Pre-test and post-test results of the training materials.
| Provide quality training materials with clearly stated goals and objectives for improving safety | Evaluation of training materials to include the target audience, statement of goals and objectives, learning level, instructions for using, additional material requirements, secondary purposes, adult learning principles and usability in the mine training environment.
| Develop training materials that are reproducible | A description of the extent to which others will replicate (i.e., adopt or adapt) the funded training materials.

The technical proposal narrative is not to exceed 12 single-sided, double-spaced pages, using 12-point font, and must contain the following sections: Program Design, Overall Qualifications of the Applicant, Output and Evaluation, and Leveraging of Funds. Any pages over the 12-page limit will not be reviewed. Major sections and sub-sections of the proposal should be divided and clearly identified. MSHA will review and rate the technical proposal in accordance with the selection criteria specified in Part V.

(a) Program Design

(1) Statement of Problem/Need for Funds. Applicants must identify a clear and specific need for proposed activities. They must identify whether they are providing a training program or creating training materials or both. They also must identify whether their application is for an annual or a renewal Brookwood-Sago grant. Applicants also must identify the number of individuals that will benefit from their training and education program; this should include identifying the type of underground mines, the geographic locations, and the number of mine operators and miners. Applicants must also identify other Federal funds they receive for similar activities.

(2) Quality of the Project Design. MSHA requires that each applicant include a 12-month workplan that correlates with the grant project period that will begin September 30, 2011, and end September 29, 2012. Renewal grant applicants must also include a second 12-month workplan covering the period from September 30, 2012, and ending September 29, 2013. An outline of specific items required in the workplan follows.

(i) Plan Overview. Describe the plan for grant activities and the anticipated results. The overall plan will describe such things as the development of training materials, the training content, recruiting of trainees, where or how training will take place, and the anticipated benefits to mine operators and miners receiving the training.

(ii) Activities. Break the overall plan down into activities or tasks. For each activity, explain what will be done, who will do it, when it will be done, and the anticipated results of the activity. For training, discuss the subjects to be taught, the length of the training sessions, and training locations (classroom/worksites). Describe how the applicant will recruit mine operators and/or miners for the training. (Note: Any commercially developed training materials the applicant proposes to use in its training must undergo an MSHA review before being used.)

(iii) Quarterly Projections. For training and other quantifiable activities, estimate the quantities involved. For example, estimate how many classes will be conducted and how many mine operators and miners will be trained each quarter of the grant (grant quarters match calendar quarters, i.e., January to March, April to June) and also provide the training number totals for the full year. Quarterly projections are used to measure the actual performance against the plan. Applicants planning to conduct a train-the-trainer program should estimate the number of individuals to be trained during the grant period by those who received the train-the-trainer training. These second tier training numbers should be included only if the organization is planning to follow up with the trainers to obtain this data during the grant period.

(iv) Materials. Describe each educational material, including any piece of equipment (e.g., mine simulator) to be produced under the grant. Provide a timetable for developing and producing the material. The timetable must include provisions for an MSHA review of draft and camera-ready products or evaluation of equipment. MSHA must review and approve training materials or equipment for technical accuracy and suitability of content before use in the grant program. Whether or not an applicant's project is to develop training materials only, the applicant should provide an overall plan that includes time for MSHA to review any materials produced.

(b) Overall Qualifications of the Applicant

(1) Applicant Background. Describe the applicant, including its mission, and a description of its membership, if any. Provide an organizational chart (the chart may be included as a separate page which will not count toward the page limit). Identify the following:

(i) Project Director. The project director is the person who will be responsible for the day-to-day operation and administration of the program. Provide the name, title, street address and mailing address (if it is different from the organization's street address), telephone and fax numbers, and e-mail address of the project director.

(ii) Certifying Representative. The certifying representative is the official in the organization who is authorized to enter into grant agreements. Provide the name, title, street address and mailing address (if it is different from the organization's street address), telephone and fax numbers, and e-mail address of the certifying representative.

(2) Administrative and Program Capability. Briefly describe the organization's functions and activities, i.e., the applicant's management and internal controls. Relate this description of functions to the organizational chart. If the applicant has received within the last five years any other government (Federal, State or local) grant funding, the application must have, as an attachment (which will not count towards the page limit), information regarding these previous grants. This information must include each organization for which the work was done and the dollar value of each grant. If the applicant does not have previous grant experience, it may partner with an organization that has grant experience to manage the grant. If the organization uses this approach, the management organization must be identified and its grant program experience discussed.

Lack of past experience with Federal grants is not a determining factor, but an applicant should show a successful experience relevant to the opportunity offered in the application. Such experience could include staff members' experience with other organizations.

(3) Program Experience. Describe the organization's experience conducting the proposed mine training program or other relevant experience. Include program specifics such as program title, numbers trained, and duration of training. If creating training materials, include the title of other materials developed. Nonprofit organizations, including community-based and faith-based organizations that do not have prior experience in mine safety may partner with an established mine safety organization to acquire safety expertise.

(4) Staff Experience. Describe the qualifications of the professional staff you will assign to the program. Attach resumes of staff already employed (resumes will not count towards the page limit). If some positions are vacant, include position descriptions and minimum hiring qualifications instead of resumes. Staff should have, at a minimum, mine safety experience, training experience, or experience working with the mining community.

(c) Outputs and Evaluations. There are two types of evaluations that must be conducted. First, describe the methods, approaches, or plans to evaluate the training sessions and/or training materials to meet the data requirements listed in the table above. Second, describe plans to assess the long-term effectiveness of the training materials and/or training conducted. The type of training given will determine whether the evaluation should include a process-related outcome or an impact-related outcome or both. This will involve following up with an evaluation, or on-site review, if feasible, of miners trained to find out what changes were made to abate hazards and improve workplace conditions, or to incorporate the training in the workplace, or both.

For training materials, include an evaluation from individuals on the clarity of the presentation, organization, and the information provided on the subject matter and whether they would continue to use the training materials. Include timetables for follow-up and for submitting a summary of the assessment results to MSHA.

For renewal grants, applicants must describe how the program will address the feedback from its or MSHA's evaluations to improve its training program, materials (including equipment), or both during the second year.

(d) Leveraging of Funds. Leveraged resources are cash or in-kind contributions obtained from sources other than the Federal government devoted to advancing the strategies described in the applicant's proposal. Applicants must include a description of any non-Federal contribution or commitments, including the source of funds and the estimated amount.

C. Submission Date, Times, and Addresses

The closing date for receipt of applications under this announcement is August 31, 2011 (no later than 11:59 p.m. EDST). Grant applications must be submitted electronically through the Grants.gov Web site. The Grants.gov site provides all the information about submitting an application electronically through the site as well as the hours of operation. Interested parties can locate the downloadable application package by the CFDA number 17.603.

Applications received by Grants.gov are electronically date and time stamped. An application must be fully uploaded and submitted (and must be date and time stamped by the Grants.gov system) before the application deadline date. Once an interested party has submitted an application, Grants.gov will notify the interested party with an automatic notification of receipt that contains a Grants.gov tracking number. MSHA then will retrieve the application from Grants.gov and send a second notification to the interested party by e-mail.

D. Intergovernmental Review

The Brookwood-Sago grants are not subject to Executive Order 12372, “Intergovernmental Review of Federal Programs.” MSHA, however, reminds applicants that if they are not operating MSHA-approved State training grants, they should contact the State grantees and coordinate any training or educational program in order not to duplicate any training or educational program offered. Information about each state grant and the entity operating the state grant is provided online at: http://www.msha.gov/TRAINING/STATES/STATES.asp.

E. Funding Restrictions

MSHA will determine whether costs are allowable under the applicable Federal cost principles and other conditions contained in the grant award.

1. Allowable Costs

Grant funds may be spent on conducting training, conducting outreach and recruiting activities to increase the number of mine operators and miners participating in the program, developing educational materials, and on necessary expenses to support these activities. Allowable costs are determined by the applicable Federal cost principles identified in Part VI.B. Program income earned during the award period shall be retained by the recipient, added to funds committed to the award, and used for the purposes and under the conditions applicable to the use of the grant funds.

2. Unallowable Costs

Grant funds may not be used for the following activities under this grant program:

(a) Any activity inconsistent with the goals and objectives of this SGA;

(b) Training on topics that are not targeted under this SGA;

(c) Duplicating training or services offered by MSHA or any MSHA State grant under section 503 of the Federal Mine Safety and Health Act of 1977;

(d) Purchasing any equipment unless pre-approved and in writing by the MSHA grant officer;

(e) Administrative costs that exceed 15% of the total grant budget; and

(f) Any pre-award costs.

Unallowable costs also include any cost determined by MSHA as not allowed according to the applicable cost principles or other conditions in the grant.

V. Application Review Information

A. Evaluation Criteria

MSHA will screen all applications to determine whether all required proposal elements are present and clearly identifiable. Those that do not comply with mandatory requirements will not be evaluated. The technical panels will review grant applications against the criteria listed below on the basis of 100 maximum points for one-year grants and 20 maximum points for the renewal portion of the grant applications. Up to 10 additional points may be given for leveraging non-Federal resources.

MSHA will evaluate the applications for annual grants and the annual portion of the two-year applications using the first five categories below. From this group, MSHA will select applicants to receive one-year funding. From these selectees, MSHA will review those that applied for option year (renewable) grants against the criteria listed in category 6 on the basis of 20 maximum points. Please note that MSHA may offer an annual grant to applicants that may not be selected for renewable grants.

1. Program Design—40 Points Total

(a) Statement of Problem/Need for Funds. (3 points)

The proposed training and education program or training materials must address either mine emergency preparedness or mine emergency prevention.

(b) Quality of the Project Design. (25 points)

(1) The proposal to train mine operators and/or miners clearly estimates the number to be trained and clearly identifies the types of mine operators and miners to be trained.

(2) If the proposal contains a train-the-trainer program, the following information must be provided:

• What ongoing support the grantee will provide to new trainers;

• The number of individuals to be trained as trainers;

• The estimated number of courses to be conducted by the new trainers;

• The estimated number of students to be trained by these new trainers and a description of how the grantee will obtain data from the new trainers documenting their classes and student numbers if conducted during the grant period.

(3) The work plan activities and training are described.

• The planned activities and training are tailored to the needs and levels of the mine operators and miners to be trained. Any special constituency to be served through the grant program is described, e.g., smaller mines, limited English proficiency miners etc. Organizations proposing to develop materials in languages other than English also will be required to provide an English version of the materials.

• If the proposal includes developing training materials, the work plan must include time during development for MSHA to review the educational materials for technical accuracy and suitability of content. If commercially developed training products will be used for a training program, applicants should also plan for MSHA to review the materials before using the products in their grant programs.

• The utility of the educational materials is described.

• The outreach or process to find mine operators, miners or trainees to receive the training is described.

(c) Replication. The extent to which a project is expected to be replicated and the potential for the project to serve a variety of mine operators, miners or mine sites. (4 points)

(d) Innovativeness. The originality and uniqueness of the approach used. (3 points)

(e) MSHA's Performance Goals. The extent the proposed project will contribute to MSHA's performance goals. (5 points)

2. Budget—20 Points Total

(a) The budget presentation is clear and detailed. (15 points)

• The budgeted costs are reasonable.

• No more than 15% of the total budget is for administrative costs.

• The budget complies with Federal cost principles (which can be found in the applicable Office of Management and Budget (OMB) Circulars and with MSHA budget requirements contained in the grant application instructions).

(b) The application demonstrates that the applicant has strong financial management and internal control systems. (5 points)

3. Overall Qualifications of the Applicant—25 Points Total

(a) The applicant has administered, or will work with an organization that has administered, a number of different Federal or State grants in the past five years. The applicant may demonstrate this experience by having project staff that has experience administering Federal and/or State grants in the past five years. (6 points)

(b) The applicant applying for the grant demonstrates experience with mine safety teaching or providing mine safety educational programs. Applicants that do not have prior experience in providing mine safety training to mine operators or miners may partner with an established mine safety organization to acquire mine safety expertise. (13 points)

• Project staff has experience in mine safety, the specific topic chosen, or in training mine operators and miners.

• Project staff has experience in recruiting, training, and working with the population the organization proposes to serve.

• Applicant has experience in designing and developing mine safety training materials for a mining program.

• Applicant has experience in managing educational programs.

(c) Applicant demonstrates internal control and management oversight of the project. (6 points)

4. Outputs and Evaluations—15 Points Total

The proposal should include provisions for evaluating the organization's progress in accomplishing the grant work activities and accomplishments, evaluating training sessions, and evaluating the program's effectiveness and impact to determine if the safety training and services provided resulted in workplace change and improved workplace conditions. The proposal should include a plan to follow up with trainees to determine the impact the program has had in abating hazards and reducing miner injuries and illnesses.

5. Leveraged Resources—10 Points Total

MSHA will award up to 10 additional rating points to applications that include non-Federal resources that expand the size and scope of project-related activities. To be eligible for the additional points, the applicant must list the resources, the nature of programmatic activities anticipated and any partnerships, linkages, or coordination of activities, cooperative funding, etc., including the monetary value of such contributions.

6. Renewal Grants: Second-Year Request—20 Points Total

A renewal proposal must include a description of the project design and budget for the second-year funding. The applicant must also describe how it will obtain input and feedback from first-year training recipients and how it will improve its program based on its or MSHA evaluations.

B. Review and Selection Process

A technical panel will rate each complete application against the criteria described in this SGA. One or more applicants may be selected as grantees on the basis of the initial application submission or a minimally acceptable number of points may be established. MSHA may request final revisions to the applications, and then evaluate the revised applications. MSHA may consider any information that comes to its attention in evaluating the applications.

The panel recommendations are advisory in nature. The Deputy Assistant Secretary of Labor for Mine Safety and Health (Deputy Assistant Secretary of Policy) will make a final selection determination based on what is most advantageous to the government, considering factors such as panel findings, geographic presence of the applicants or the areas to be served, Agency priorities, and the best value to the government, cost and other factors. The Deputy Assistant Secretary's determination for award under this SGA is final.

C. Anticipated Announcement and Award Dates

Announcement of these awards is expected to occur by September 17, 2011. The grant agreement will be signed no later than September 30, 2011.

VI. Award Administration Information

A. Award Process

Organizations selected as potential grant recipients will be notified by a representative of the Deputy Assistant Secretary, usually the Grant Officer or his staff. An applicant whose proposal is not selected will be notified in writing. The fact that an organization has been selected as a potential grant recipient does not necessarily constitute approval of the grant application as submitted (revisions may be required).

Before the actual grant award, MSHA may enter into negotiations with the potential grant recipient concerning such matters as program components (including the type of grant), staffing and funding levels, and administrative systems. If the negotiations do not result in an acceptable submittal, the Deputy Assistant Secretary reserves the right to terminate the negotiations and decline to fund the proposal.

B. Administrative and National Policy Requirements

All grantees will be subject to applicable Federal laws and regulations (including provisions of appropriations law) and applicable OMB Circulars. The grants awarded under this competitive grant program will be subject to the following administrative standards and provisions, if applicable:

• 29 CFR part 2, subpart D, Equal Treatment for Religious Organizations.

• 29 CFR parts 31, 32, 35 and 36, Nondiscrimination.

• 29 CFR part 93, Restrictions on Lobbying.

• 29 CFR part 94, Drug-free Workplace.

• 29 CFR part 95, Uniform Grant Requirements for Nonprofit Organizations.

• 29 CFR parts 96 and 99, Audits.

• 29 CFR part 97, Uniform Grant Requirements for States.

• 29 CFR part 98, Debarment and Suspension.

• 2 CFR part 25, Universal Identifier and Central Contractor Registration.

• 2 CFR part 170, Reporting Subawards.

• 2 CFR part 175, Award Term for Trafficking in Persons.

• 2 CFR part 220, Cost Principles for Educational Institutions.

• 2 CFR part 225, Cost Principles for State and Local Governments.

• 2 CFR part 230, Cost Principles for Other Nonprofit Organizations.

• Federal Acquisition Regulation (FAR) Subpart 31.2, Cost Principles for Commercial Organizations. (Codified at 48 CFR Subpart 31.2.)

Administrative costs for these grants may not exceed 15%. Unless specifically approved, MSHA's acceptance of a proposal or MSHA's award of Federal funds to sponsor any program does not constitute a waiver of any grant requirement or procedure. For example, if an application identifies a specific sub-contractor to provide certain services, the MSHA award does not provide a basis to sole-source the procurement (to avoid competition).

C. Special Program Requirements

1. MSHA Review of Educational Materials

MSHA will review all grantee-produced educational and training materials for technical accuracy and suitability of content during development and before final publication. MSHA also will review training curricula and purchased training materials for technical accuracy and suitability of content before the materials are used. Grantees developing training materials must follow all copyright laws and provide written certification that their materials are free from copyright infringements.

When grantees produce training materials, they must provide copies of completed materials to MSHA before the end of the grant period. Completed materials should be submitted to MSHA in hard copy and in digital format (CD-ROM/DVD) for publication on the MSHA Web site. Two copies of the materials must be provided to MSHA. Acceptable formats for training materials include Microsoft XP Word, PDF, PowerPoint, and any other format agreed upon by MSHA.

2. License

As listed in 29 CFR 95.36, the Department of Labor reserves a royalty-free, nonexclusive, and irrevocable right to reproduce, publish, or otherwise use for Federal purposes any work produced under a grant, and to authorize others to do so. Grantees must agree to provide the Department of Labor a paid-up, nonexclusive, and irrevocable license to reproduce, publish, or otherwise use for Federal purposes all products developed, or for which ownership was purchased, under an award. Such products include, but are not limited to, curricula, training models, technical assistance products, and any related materials. Such uses include, but are not limited to, the right to modify and distribute such products worldwide by any means, electronic, or otherwise.

3. Acknowledgement on Printed Materials

All approved grant-funded materials developed by a grantee shall contain the following disclaimer: “This material was produced under grant number XXXXX from the Mine Safety and Health Administration, U.S. Department of Labor. It does not necessarily reflect the views or policies of the U.S. Department of Labor, nor does mention of trade names, commercial products, or organizations imply endorsement by the U.S. Government.”

When issuing statements, press releases, request for proposals, bid solicitations, and other documents describing projects or programs funded in whole or in part with Federal money, all grantees receiving Federal funds must clearly state:

(a) The percentage of the total costs of the program or project that will be financed with Federal money;

(b) The dollar amount of Federal financial assistance for the project or program; and

(c) The percentage and dollar amount of the total costs of the project or program that will be financed by non-governmental sources.

4. Use of U.S. Department of Labor (USDOL) and MSHA Logos

MSHA may allow the USDOL or the MSHA logo to be applied to the grant-funded material including posters, videos, pamphlets, research documents, national survey results, impact evaluations, best practice reports, and other publications. Before the DOL or MSHA logos are used on grant-funded materials, the grantees must consult with MSHA. In no event shall the USDOL or the MSHA logo be placed on any item until MSHA has given the grantee written permission to use either logo on the item.

5. Reporting

Grantees are required by Departmental regulations to submit financial and project reports, as described below, each calendar quarter. All reports are due no later than 30 days after the end of the calendar quarter and shall be submitted to MSHA. Grantees also are required to submit final reports 90 days after the end of the grant period.

(a) Financial Reports. The grantee shall submit financial reports on a quarterly basis.

(b) Technical Project Reports. After signing the agreement, the grantee shall submit technical project reports to MSHA at the end of each calendar quarter. Technical project reports provide both quantitative and qualitative information and a narrative assessment of performance for the preceding three-month period. See 29 CFR 95.51 and 29 CFR 97.40. This should include the current grant progress against the overall grant goals.

Between reporting dates, the grantee shall immediately inform MSHA of significant developments or problems affecting the organization's ability to accomplish the work.

(c) Final Reports. At the end of each 12-month performance period, each grantee must provide a final financial report, a summary of its technical project reports, and an evaluation report. In addition to these requirements, in its second-year final report, renewal grantees must provide the total outputs for the two years, a list of best practices used, and any changes made as a result of evaluation feedback.

H. Freedom of Information

Any information submitted in response to this SGA will be subject to the provisions of the Freedom of Information Act, as appropriate.

I. Transparency in the Grant Process

DOL is committed to conducting a transparent grant award process and publicizing information about the program's performance. Posting grant applications on public Web sites is a means of promoting and sharing innovative ideas. For this grant competition, we will publish the Executive Summary as required by this solicitation for all applications on the Department's Web site or similar location. Additionally, we will publish a version of the Technical Proposal required by this solicitation, for all those applications that are awarded grants, on the Department's Web site or a similar location. No other parts of or attachments to the application will be published. The Technical Proposals and Executive Summaries will not be published until after the grants are awarded. In addition, information about grant progress and results may also be made publicly available.

DOL recognizes that grant applications sometimes contain information that an applicant may consider proprietary or business confidential information, or may contain personally identifiable information. Information is considered proprietary or confidential commercial/business information when it is not usually disclosed outside your organization and when its disclosure is likely to cause substantial competitive harm. Personally identifiable information is information that can be used to distinguish or trace an individual`s identity, such as name, social security number, date and place of birth, mother`s maiden name, or biometric records, or other information that is linked or linkable to an individual, such as medical, educational, financial, and employment information.¹

¹ Memorandums 07-16 and 06-19. GAO Report 08-536, Privacy: Alternatives Exist for Enhancing Protection of Personally Identifiable Information, May 2008, http://www.gao.gov/new.items/d08536.pdf.

Executive Summaries will be published in the form originally submitted, without any redactions. However, in order to ensure that confidential information is properly protected from disclosure when DOL posts the winning Technical Proposals, applicants whose technical proposals will be posted will be asked to submit a second redacted version of their Technical Proposal, with proprietary, confidential commercial/business, and personally identifiable information redacted. All non-public information about the applicant's staff should be removed as well.

The Department will contact the applicants whose technical proposals will be published by letter or e-mail, and provide further directions about how and when to submit the redacted version of the Technical Proposal. Submission of a redacted version of the Technical Proposal will constitute permission by the applicant for DOL to post that redacted version. If an applicant fails to provide a redacted version of the Technical Proposal, DOL will publish the original Technical Proposal in full, after redacting personally identifiable information. (Note that the original, unredacted version of the Technical Proposal will remain part of the complete application package, including an applicant's proprietary and confidential information and any personally identifiable information.)

Applicants are encouraged to maximize the grant application information that will be publicly disclosed, and to exercise restraint and redact only information that truly is proprietary, confidential commercial/business information, or capable of identifying a person. The redaction of entire pages or sections of the Technical Proposal is not appropriate, and will not be allowed, unless the entire portion merits such protection. Should a dispute arise about whether redactions are appropriate, DOL will follow the procedures outlined in the Department's Freedom of Information Act (FOIA) regulations (29 CFR part 70).

If DOL receives a FOIA request for your application, the procedures in DOL's FOIA regulations for responding to requests for commercial/business information submitted to the government will be followed, as well as all FOIA exemptions and procedures. 29 CFR 70.26. Consequently, it is possible that application of FOIA rules may result in release of information in response to a FOIA request that an applicant redacted in its “redacted copy.”

VII. Agency Contacts

Any questions regarding this solicitation for grant applications (SGA 11-3BS) should be directed to Robert Glatter at glatter.robert@dol.gov or at 202-693-9570 (this is not a toll-free number) or the Grant Officer, Carl Campbell at campbell.carl@dol.gov or at 202-693-9839 (this is not a toll-free number). MSHA's Web page at http://www.msha.gov is a valuable source of background for this initiative.

VIII. Office of Management and Budget Information Collection Requirements

This SGA requests information from applicants. This collection of information is approved under OMB Control No. 1225-0086 (expires November 30, 2012).

In accordance with the Paperwork Reduction Act of 1995, no persons are required to respond to a collection of information unless such collection displays a valid OMB control number. Public reporting burden for the grant application is estimated to average 20 hours per response, for reviewing instructions, searching existing data sources, gathering and maintaining the data needed, and completing and reviewing the collection of information. Each recipient who receives a grant award notice will be required to submit nine progress reports to MSHA. MSHA estimates that each report will take approximately five hours to prepare.

Send comments regarding the burden estimated or any other aspect of this collection of information, including suggestions for reducing this burden, to the OMB Desk Officer for MSHA, Office of Management and Budget Room 10235, Washington DC 20503 and MSHA, electronically to Robert Glatter at glatter.robert@dol.gov or the Grant Officer, Carl Campbell at campbell.carl@dol.gov or by mail to Robert Glatter, Room 2102, 1100 Wilson Boulevard, Arlington, Virginia 22209.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Authority: 30 U.S.C. 965.

Dated: July 29, 2011.
Patricia W. Silvey,
Deputy Assistant Secretary for Operations, Mine Safety and Health.

[FR Doc. 2011-19710 Filed 8-1-11; 11:15 am]

BILLING CODE 4510-43-P